DEPARTMENT OF DEFENSE

[Transmittal No. 20-48]

Arms Sales Notification

AGENCY: Defense Security Cooperation Agency, Department of Defense (DoD).

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-48 with attached Policy Justification and Sensitivity of Technology.

Dated: February 23, 2021.
Aaron T. Siegel,
Alternate OSD Federal Register Liaison Officer, Department of Defense.

BILLING CODE 5001-06-P

Transmittal No. 20-48

Notice of Proposed Issuance of Letter of Offer Pursuant to Section 36(b)(1) of the Arms Export Control Act, as amended

(i) Prospective Purchaser: NATO Communications and Information Agency (NCIA)

(ii) Total Estimated Value:

Major Defense Equipment * | $38 million
Other | $27 million
TOTAL | $65 million

(iii) Description and Quantity or Quantities of Articles or Services under Consideration for Purchase:

Major Defense Equipment (MDE):

Five hundred seventeen (517) AN/PRC-158 Manpack UHF SATCOM Radio Systems

Non-MDE: Also included are crypto fill devices, man-portable ancillaries, vehicular ancillaries, deployed Headquarter ancillaries, power support, and operator and maintenance training, and other related elements of program, technical and logistics support.

(iv) Military Department: Army (K4-B-VAA)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: February 5, 2021

* As defined in Section 47(6) of the Arms Export Control Act.

Policy Justification

NATO Communications and Information Agency (NCIA)—UHF SATCOM Radio Systems

The NATO Communications and Information Agency (NCIA) has requested to buy five hundred seventeen (517) AN/PRC-158 Manpack UHF SATCOM radio systems. Also included are crypto fill devices, man-portable ancillaries, vehicular ancillaries, deployed Headquarter ancillaries, power support, and operator and maintenance training, and other related elements of program, technical and logistics support. The total estimated program cost is $65 million.

This proposed sale will support the foreign policy and national security of the United States by helping to improve the security of NATO allies and partner nations that are an important force for ensuring peace and stability in Europe.

This proposed sale will ensure NATO warfighters have access to the latest C3I systems and technologies, and will be interoperable with U.S. forces. An updated UHF TACSAT radios in the hands of NATO allies and partners will offer significant C3I capabilities at all echelons, from the operational level down to the lowest small unit tactical formation. These capabilities increase secure communication effectiveness and efficiency and enhance military decision making. NCIA will have no difficulty absorbing this equipment into its armed forces.

The proposed sale of this equipment will not alter the basic military balance in the region.

The prime contractor will be Collins Aerospace, Cedar Rapids, IA. There are no known offset agreements in connection with this potential sale.

Implementation of this proposed sale will require one (1) or two (2) contractor representatives to travel to the specified NATO country to conduct the Operator and Maintenance OCONUS for a period of two (2) months.

There will be no adverse impact on U.S. defense readiness as a result of this proposed sale.

Transmittal No. 20-48

Notice of Proposed Issuance of Letter of Offer Pursuant to Section 36(b)(1) of the Arms Export Control Act

Annex

Item No. vii

(vii) Sensitivity of Technology:

1. The UHF SATCOM terminal provides voice or data connectivity. The device itself is CCI but is not classified until it is keyed with the proper keying material to enable secure communications.

2. The highest level of information required to furnish the equipment, training, and data associated with this proposed sale is UNCLASSIFIED.

3. If a technologically advanced adversary were to obtain knowledge of the specific hardware and software elements, the information could be used to develop countermeasures that might reduce weapon system effectiveness or be used in the development of a system with similar or advanced capabilities.

4. This sale is necessary in furtherance of the U.S. foreign policy and national security objectives outlined in the enclosed Policy Justification. A determination has been made that the NCIA can provide the same degree of protection for the sensitive technology being released as the U.S. Government.

5. All defense articles and services listed in this transmittal have been authorized for release and export to the NCIA.

[FR Doc. 2021-04122 Filed 2-26-21; 8:45 am]

BILLING CODE 5001-06-C